FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than April 18, 2003.

A. Federal Reserve Bank of New York (Betsy Buttrill White, Senior Vice President) 33 Liberty Street, New York, New York 10045-0001:

1. Woori Bank and Woori Finance Holdings Company, Ltd., both of Seoul, Korea; to become a bank holding company by acquiring 100 percent of the voting shares of Panasia Bank, National Association, Fort Lee, New Jersey.

B. Federal Reserve Bank of Atlanta (Sue Costello, Vice President) 1000 Peachtree Street, N.E., Atlanta, Georgia 30303:

1. Alabama National BanCorporation, Birmingham, Alabama; to acquire 100 percent of the voting shares of Millennium Bank, Gainesville, Florida.

2. Community Bancshares of Mississippi, Inc., Brandon, Mississippi; to acquire at least 80 percent of the voting shares of First Lucedale Bancorp, Inc., Lucedale, Mississippi, and thereby indirectly acquire voting shares of First National Bank of Lucedale, Lucedale, Mississippi.

3. Sterling BancGroup, Inc., Lantana, Florida; to become a bank holding company by acquiring 100 percent of the voting shares of Sterling Bank, Lantana, Florida.

C. Federal Reserve Bank of Chicago (Phillip Jackson, Applications Officer) 230 South LaSalle Street, Chicago, Illinois 60690-1414:

1. National Bancshares, Inc., Bettendorf, Iowa; to acquire at least 33.56 percent of the voting shares of Benchmark Bancorp, Inc., Aurora, Illinois, and thereby indirectly acquire voting shares of Benchmark Bank, Aurora, Illinois.

2. PSB Group, Inc., Madison Heights, Michigan; to become a bank holding company by acquiring 100 percent of the voting shares of Peoples State Bank, Hamtramck, Michigan.

D. Federal Reserve Bank of St. Louis (Randall C. Sumner, Vice President) 411 Locust Street, St. Louis, Missouri 63166-2034:

1. Liberty Bancshares, Inc., Jonesboro, Arkansas; to acquire 100 percent of the voting shares of MSB Shares, Inc., Jonesboro, Arkansas, and thereby indirectly acquire voting shares of MidSouth Bank, Jonesboro, Arkansas.

E. Federal Reserve Bank of Kansas City (Susan Zubradt, Assistant Vice President) 925 Grand Avenue, Kansas City, Missouri 64198-0001:

1. Central Financial Corporation, Hutchinson, Kansas; to acquire up to 45 percent of the voting shares of Mid-America Bancorp, Inc., and thereby indirectly acquire voting shares of Heartland Bank, both of Jewell, Kansas.

2. Guaranty Corporation, Denver, Colorado; to acquire up to 19.19 percent of the voting shares of Bank Capital Corporation, Phoenix, Arizona, and thereby indirectly acquire The Biltmore Bank of Arizona, Phoenix, Arizona.

3. Steele Street State Bank Corporation, Denver, Colorado; to become a bank holding company by acquiring 100 percent of the voting shares of Steele Street State Bank, Denver, Colorado.

F. Federal Reserve Bank of San Francisco (Maria Villanueva, Consumer Regulation Group) 101 Market Street, San Francisco, California 94105-1579:

1. American Premier Bancorp, Arcadia, California; to become a bank holding company by acquiring 100 percent of the voting shares of American Premier Bank, Arcadia, California.

Board of Governors of the Federal Reserve System, March 20, 2003.
Robert deV. Frierson,
Deputy Secretary of the Board.

[FR Doc. 03-7194 Filed 3-25-03; 8:45 am]

BILLING CODE 6210-01-S